DEPARTMENT OF COMMERCE

National Oceanic and Atmospheric Administration

[I.D. 100902A]

Caribbean Fishery Management Council (CFMC); Public Meetings

AGENCY: National Marine Fisheries Service (NMFS), National Oceanic and Atmospheric Administration (NOAA), Commerce.

ACTION: Notice of public meetings.

SUMMARY: The Caribbean Fishery Management Council's Habitat Advisory Panel (HAP), and the Scientific and Statistical Committee (SSC), and the Sustainable Fisheries Act (SFA) Committee will hold meetings.

DATES: The SFA Committee will meet on October 23-24, 2002, and the HAP/SSC meeting will be held on October 25, 2002.

ADDRESSES: The meetings will be held at the Embassy Suites Hotel, 8000 Tartak St., Isla Verde, Carolina, PR.

FOR FURTHER INFORMATION CONTACT: Caribbean Fishery Management Council, 268 Munoz Rivera Avenue, Suite 1108, San Juan, PR 00918-2577, telephone 787-766-5926.

SUPPLEMENTARY INFORMATION: The SFA Committee, the HAP, and the SSC will meet to discuss the items contained in the following agendas:

October 23, 2002

SFA Committee Meeting

Presentation of SFA Parameter Tables

Review of Section I of the SFA Amendment Options Paper

The SFA Committee will need to review the various SFA parameter options and offer recommendations to the CFMC based on group consensus. These recommended alternatives will then be utilized to construct the table of SFA parameters for CFMC managed species.

Additionally, the SFA Committee will need to review the various alternatives regarding the aquarium trade species in the Reef Fish and Coral Fishery Management Plans, in order to produce a recommendation to the CFMC on how to pursue management of these species. This discussion will have ramifications on the generation of stock status determination criteria for these species.

Construction of SFA Parameters

The SFA Committee will need to evaluate the various biological and socio-economic data, as well as personal knowledge and experience, on all managed species and species groups, in order to recommend prudent stock status determination criteria to the CFMC. This process may, in turn drive additional management measures, based on the resulting stock status determination (i.e., approaching overfished or overfished status).

October 24, 2002

Discussion on Sections I and II of the SFA Amendment Options Paper

The SFA Committee will need to review the various proposed alternatives and offer recommendations to the CFMC based on group consensus that will comply with Magnuson-Stevens Fishery Conservation and Management Act (Magnuson-Stevens Act) and National Environmental Policy Act requirements.

Discussion on Sections I and II of the SFA Amendment Options Paper (continued)

October 25, 2002

HAP/SSC

Call to Order

Decision Making Process for Essential Fish Habitat (EFH)

Alternatives (Decision Tree)

Mapping EFH

Fishing Impacts on EFH

Alternatives for Habitat Areas of Particular Concern (HAPC)

Environmental Consequences

Other Business

The SFA Committee will meet on Wednesday, October 23, and Thursday, October 24, 2002. The HAP/SSC will convene on Friday, October 2002, from 10-4 p.m.

The meetings are open to the public, and will be conducted in English. Fishers and other interested persons are invited to attend and participate with oral or written statements regarding agenda issues.

Although non-emergency issues not contained in this agenda may come before the Council for discussion, in accordance with the Magnuson-Stevens Act, those issues may not be the subject of formal Council action during these meetings. Action will be restricted to those issues specifically listed in this notice and any issue arising after publication of this notice that require emergency action under section 305(c) of the Magnuson-Stevens Act, provided the public has been notified of the Council's intent to take final action to address this emergency.

Special Accommodations

These meetings are physically accessible to people with disabilities. For more information or request for sign language interpretation and/other auxiliary aids, please contact Mr. Miguel A. Rolon, Executive Director, Caribbean Fishery Management Council, 268 Munoz Rivera Avenue, Suite 1108, San Juan, PR 00918-2577, telephone (787) 766-5926, at least 5 days prior to the meeting date.

Dated: October 9, 2002.
Matteo Milazzo,
Acting Director, Office of Sustainable Fisheries, National Marine Fisheries Service.

[FR Doc. 02-26135 Filed 10-11-02; 8:45 am]

BILLING CODE 3510-22-S